FEDERAL MARITIME COMMISSION

[Docket No. 22-14]

MSRF, Inc., Complainant v. HMM Company Limited, and Yang Ming Marine Transport Corporation, Respondents; Notice of Filing of Complaint and Assignment

Served: June 8, 2022.

Notice is given that a complaint has been filed with the Federal Maritime Commission (Commission) by MSRF, Inc. (MSRF), hereinafter “Complainant”, against HMM Company Limited (HMM) and Yang Ming Marine Transport Corporation (Yang Ming), hereinafter “Respondents”. Complainant alleges that Respondents are ocean common carriers organized under the laws of the Republic of Korea and Taiwan, respectively.

Complainant alleges that Respondents violated 46 U.S.C. 41102(c), 41104(a)(2), 41104(a)(5), 41104(a)(9), and 41104 (a)(10). The full text of the complaint can be found in the Commission's Electronic Reading Room at https://www2.fmc.gov/readingroom/proceeding/22-14/.

This proceeding has been assigned to Office of Administrative Law Judges. The initial decision of the presiding officer in this proceeding shall be issued by June 8, 2023, and the final decision of the Commission shall be issued by December 22, 2023.

William Cody,
Secretary.

[FR Doc. 2022-12735 Filed 6-13-22; 8:45 am]

BILLING CODE 6730-02-P